ENVIRONMENTAL PROTECTION AGENCY

[FRL-7604-6]

Clean Air Act Operating Permit Program; Petition for Objection to State Operating Permit DuPont Dow Elastomers, L.L.C.

AGENCY: Environmental Protection Agency (EPA).

ACTION: Notice of final order on petition to object to State operating permit.

SUMMARY: This notice announces that the EPA Administrator has denied the petition to object to a State operating permit issued by the Louisiana Department of Environmental Quality (LDEQ) for the chloroprene plant at DuPont Dow Chemical Company in La Place, Louisiana. Pursuant to section 505(b)(2) of the Clean Air Act (Act), the petitioner may seek judicial review of this petition response in the United States Court of Appeals for the Fifth Circuit. Any petition must be filed within 60 days of the date this notice appears in the Federal Register, pursuant to section 307(d) of the Act.

ADDRESSES: You may review copies of the final order, the petition, and other supporting information at the Environmental Protection Agency, Region 6, 1445 Ross Avenue, Dallas, Texas 75202-2733. If you wish to examine these documents, you should make an appointment at least 24 hours before visiting day. The final order is also available electronically at the following address: http://www.epa.gov/region07/programs/artd/air/title5/petitiondb/petitiondb2001.htm.

FOR FURTHER INFORMATION CONTACT: Ms. Bonnie Braganza, Air Permitting Section, Multimedia Planning and Permitting Division, U.S. EPA, Region 6, 1445 Ross Avenue, Dallas, Texas 75202-2733, telephone (214) 665-7340, or e-mail at braganza.bonnie@epa.gov.

SUPPLEMENTARY INFORMATION: The Act affords EPA a 45-day period to review, and object as appropriate to, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

The Louisiana Environmental Action Network submitted a petition requesting that the Administrator object to a title V operating permit issued by LDEQ to DuPont Dow Chemical Company, for the chloroprene unit at the DuPont Dow Elastomer's facility, in La Place, Louisiana.

The petitioner requested that the Administrator object to the DuPont Dow permit based on the following broad assertions:

1. LDEQ's interpretation of 40 Code of Federal Regulations (CFR) 63.115 is inconsistent with the Act's goal of protecting public health;

2. LDEQ's interpretation would result in increased discharges of halogenated organic hazardous air pollutants (HAP), an “extremely dangerous” class of pollutants;

3. LDEQ's interpretation results in greater controls of nonhalogenated vent streams relative to halogenated vent streams;

4. A rational interpretation of 40 CFR 63.115 must result in a Group 1 classification and the accompanying control requirements;

5. LDEQ has misinterpreted 40 CFR 63.115.

On November 20, 2003, the Administrator issued an order denying the petition. The order explains the reasons for the Administrator's decision.

Dated: December 18, 2003.
Lawrence E. Starfield,
Acting Regional Administrator, Region 6.

[FR Doc. 03-32215 Filed 12-30-03; 8:45 am]

BILLING CODE 6560-50-P